DEPARTMENT OF DEFENSE

Office of the Secretary

U.S. Nuclear Command and Control System Comprehensive Review Advisory Committee

AGENCY: Department of Defense.

ACTION: Notice of meeting.

SUMMARY: Under the provisions of the Federal Advisory Committee Act of 1972 (5 U.S.C., Appendix, as amended), the Government in the Sunshine Act of 1976 (5 U.S.C. paragraph 552b, as amended), and 41 CFR paragraph 102-3.150, the Department of Defense announces the following Federal Advisory Committee meetings of the U.S. Nuclear Command and Control System Comprehensive Review Advisory Committee will take place.

DATES: December 3, 2008 (0830-1630), and December 4, 2008 (0830-1700).

ADDRESSES: Pentagon Conference Center.

FOR FURTHER INFORMATION CONTACT: Mr. William L. Jones, (703) 681-8681, U.S. Nuclear Command and Control System Support Staff (NSS), Skyline 3, 5201 Leesburg Pike, Suite 500, Falls Church, Virginia 22041.

SUPPLEMENTARY INFORMATION: Purposes of the Meetings: For the Federal Advisory Committee to be provided reports of the findings and recommendations of each of its twelve Research Groups.

Agenda
Time | Topic | Presenter
December 3, 2008—Pentagon Conference Center
8:30 a.m. | Administrative Remarks | CAPT Budney, USN (NSS).
8:45 a.m. | Physical and Personnel Security
9:45 a.m. | Recapture/Recovery
10:45 a.m. | Break
11 a.m. | Accident/Incident Response
12 p.m. | Lunch
1 p.m. | Warhead and Stockpile Management
2 p.m. | Information Assurance
3:15 p.m. | Break
3:30 p.m. | Weapons Delivery
4:30 p.m. | Adjourn
December 4, 2008—Pentagon Conference Center
8:30 a.m. | Administrative Remarks | CAPT Budney, USN (NSS).
8:45 a.m. | Force Planning
9:45 a.m. | Force Management and Direction
10:45 a.m. | Break
11 a.m. | Situational Awareness/ITW/AA
12 p.m. | Lunch
1 p.m. | Communications
2 p.m. | Threat/Intelligence
3:15 p.m. | Break
3:30 p.m. | Crisis Support (closed session)
4:30 p.m. | Executive Session—Final Report Outline | Dr. Weinstein.
5 p.m. | Adjourn

Pursuant to 5 U.S.C. paragraph 552b, as amended, and 41 CFR paragraph 102-3.155, the Department of Defense has determined that the meeting shall be closed to the public. The Director, U.S. Nuclear Command and Control System Support Staff, in consultation with his General Counsel, has determined in writing that the public interest requires that all sessions of the committee's meeting will be closed to the public because they will be concerned with classified information and matters covered by section 5 U.S.C. paragraph 552b(c)(1).

Committee's Designated Federal Officer: Mr. William L. Jones, (703) 681-8681, U.S. Nuclear Command and Control System Support Staff (NSS), Skyline 3, 5201 Leesburg Pike, Suite 500, Falls Church, Virginia 22041. William.jones@nss.pentagon.mil.

Pursuant to 41 CFR paragraphs 102-3.105(j) and 102-3.140, and section 10(a)(3) of the Federal Advisory Committee Act of 1972, the public or interested organizations may submit written statements at any time to the Nuclear Command and Control System Federal Advisory Committee about its mission and functions. All written statements shall be submitted to the Designated Federal Officer for the Nuclear Command and Control System Federal Advisory Committee. He will ensure that written statements are provided to the membership for their consideration. Written statements may also be submitted in response to the stated agenda of planned committee meetings. Statements submitted in response to this notice must be received by the Designated Federal Officer at least five calendar days prior to the meeting which is the subject of this notice. Written statements received after that date may not be provided or considered by the Committee until its next meeting. All submissions provided before that date will be presented to the committee members before the meeting that is subject of this notice. Contact information for the Designated Federal Officer is listed above.

Dated: November 7, 2008.
Patricia L. Toppings,
OSD Federal Register Liaison Officer, Department of Defense.

[FR Doc. E8-27198 Filed 11-14-08; 8:45 am]

BILLING CODE 5001-06-P